DEPARTMENT OF LABOR

Employment and Training Administration

[TA-W-65,902]

Noranda Aluminum, Inc., New Madrid, MO; Notice of Termination of Investigation

Pursuant to Section 221 of the Trade Act of 1974, as amended, an investigation was initiated on May 7, 2009, in response to a petition filed on behalf of workers at Noranda Aluminum, Inc., New Madrid, Missouri.

The petitioner has requested that the petition be withdrawn. Consequently, the investigation has been terminated.

Signed at Washington, DC, this 12th day of May 2009.
Elliott S. Kushner,
Certifying Officer, Division of Trade Adjustment Assistance.

[FR Doc. E9-13442 Filed 6-8-09; 8:45 am]

BILLING CODE 4510-FN-P